DEPARTMENT OF STATE

[Public Notice 5472]

STATE-68 Office of the Coordinator for Reconstruction and Stabilization Records

Summary: Notice is hereby given that the Department of State proposes to create a new system of records, STATE-68, pursuant to the Provisions of the Privacy Act of 1974, as amended (5 U.S.C.(r)), and the Office of Management and Budget Circular No. A-130, Appendix I. The Department's report was filed with the Office of Management and Budget on June 1, 2006.

It is proposed that the new system will be named “Office of the Coordinator for Reconstruction and Stabilization Records.” This system description is proposed in order to reflect more accurately the Office of the Coordinator for Reconstruction and Stabilization's recordkeeping system, activities and operations.

Any persons interested in commenting on this new system of records may do so by submitting comments in writing to Margaret P. Grafeld, Director; Office of Information Programs and Services; A/RPS/IPS; Department of State, SA-2; Washington, DC 20522-6001. This system of records will be effective 40 days from the date of publication, unless we receive comments that will result in a contrary determination.

This new system description, “Office of the Coordinator for Reconstruction and Stabilization Records, STATE-68” will read as set forth below.

Dated: May 31, 2006.
Frank Coulter,
Acting Assistant Secretary for the Bureau of Administration, Department of State.

STATE-68

SYSTEM NAME:

Office of the Coordinator for Reconstruction and Stabilization Records.

SECURITY CLASSIFICATION:

Unclassified.

SYSTEM LOCATION:

Department of State; SA-3; 2121 Virginia Avenue, NW.; Washington, DC 20520.

CATEGORIES OF INDIVIDUALS COVERED BY THE SYSTEM:

Individuals who have been involved in reconstruction and stabilization activities as an effort to develop lessons learned from past experience; and, individuals who wish to volunteer for potential future overseas reconstruction and stabilization activities; either in a management function based in Washington, DC or in a foreign deployment providing direct support.

AUTHORITY FOR MAINTENANCE OF THE SYSTEM:

Pub. L. 108-447, Div B, Title IV, § 408, 118 Stat. 2904 (Consolidated Appropriations Act, 2005).

CATEGORIES OF RECORDS IN THE SYSTEM:

We will be collecting forms from individuals who are have expressed interest in deploying overseas or domestically in support of Reconstruction and Stabilization efforts of the U.S. Government. The individuals could be selected to participate in various response mechanisms that the office is developing, such as the Active Response Corps.

Additional forms will collect information from individuals who have served overseas in support of Reconstruction and Stabilization efforts as part of a lessons learned database. These individuals will not be expressing interest in redeploying but rather in sharing their experiences to assist in the U.S. Government effort to determine what did and did not work in past or current operations.

ROUTINE USES OF RECORDS MAINTAINED IN THE SYSTEM, INCLUDING CATEGORIES OF USERS AND PURPOSES OF SUCH USES:

The information in this system will be used to help the office carry out its mandate to lead coordinate and institutionalize stabilization and reconstruction activities of the United States Government.

The records shall be compiled and used to develop lessons learned from experiences of individuals in reconstruction and stabilization activities, these individuals will not be expressing interest in redeploying but rather in sharing their experiences to assist in the U.S. Government effort to determine what did and did not work in past or current operations.

Additional uses will be to select individuals who have expressed an interest in deploying overseas or domestically in support of Reconstruction and Stabilization efforts of the U.S. Government. The individuals could be selected to participate in various response mechanisms that the office is developing, such as the Active Response Corps.

POLICIES AND PRACTICES FOR STORING, RETRIEVING, ACCESSING, RETAINING AND DISPOSING OF RECORDS IN THE SYSTEM:

STORAGE:

Electronic media; hard copy.

RETRIEVABILITY:

Individual name, designated specialty in reconstruction and stabilization operations.

SAFEGUARDS:

All employees of the Department of State have undergone a thorough personnel security background investigation. Access to the Department of State building and the annexes is controlled by security guards, and admission is limited to those individuals possessing a valid identification card or individuals under proper escort. All records containing personal information are maintained in secured filing cabinets or in restricted areas, access to which is limited to authorized personnel. Access to electronic files is password-protected and under the direct supervision of the system manager. The system manager has the capability of printing audit trails of access from the computer media, thereby permitting regular and ad hoc monitoring of computer usage.

RETENTION AND DISPOSAL:

These records will be maintained with published record disposition schedules of the Department of State as approved by the National Archives and Records Administration. More specific information may be obtained by writing to the Director, Office of Information Programs and Services, A/RPS/IPS, SA-2, Department of State, Washington, DC 20522-8100.

SYSTEM MANAGER AND ADDRESS:

Office of the Coordinator for Reconstruction and Stabilization; Department of State; SA-3; 2121 Virginia Avenue, NW.; Washington, DC 20520.

NOTIFICATION PROCEDURE:

Individuals who have reason to believe that the Office of the Coordinator for Reconstruction and Stabilization might have records pertaining to them should write to the Director, Office of Information Programs and Services, A/RPS/IPS, SA-2, Department of State, Washington, DC 20522-8100. The individual must specify that he or she wishes the records of the Office of the Coordinator for Reconstruction and Stabilization to be checked. At a minimum, the individual should include: Name; date and place of birth; preferably his/her Social Security Number; current mailing address and zip code; signature; a brief description of the circumstances that caused the creation of the record (including the city and/or country and the approximate dates) which gives the individual cause to believe that the Office of the Coordinator for Reconstruction and Stabilization has records pertaining to him or her.

RECORD ACCESS AND AMENDMENT PROCEDURES:

Individuals who wish to gain access to or to amend records pertaining to them should write to the Director, Office of Information Programs and Services (address above).

RECORD SOURCE CATEGORIES:

These records contain information that is obtained from the individual who is the subject of the records.

SYSTEMS EXEMPTED FROM CERTAIN PROVISIONS OF THE ACT:

Pursuant to 5 U.S.C. 552a(k)(6) records in this system of records may be exempted from 5 U.S.C. 552a(c)(3).(d).(e)(l).(e)(4)(G). (H). and (I) and (f). L/LM will review at clearance per Brian Egan.

[FR Doc. E6-11632 Filed 7-20-06; 8:45 am]

BILLING CODE 4710-24-P